FEDERAL COMMUNICATIONS COMMISSION

[MB Docket No. 18-214; MB Docket No. 16-306; GN Docket No. 12-268; DA 18-1072]

Incentive Auction Task Force and Media Bureau Seek Comment on Catalog of Potentially Reimbursable Costs Incurred by Low Power Television, Television Translator and FM Broadcast Stations

AGENCY: Federal Communications Commission.

ACTION: Notice; solicitation of comments.

SUMMARY: This document seeks comment on a proposed catalog of potentially reimbursable costs that may be incurred by Low Power Television (LPTV), television translator, and FM broadcast stations as a result of the Federal Communications Commission's (Commission's) broadcast television spectrum incentive auction. Title V of the Consolidated Appropriations Act, 2018 (Reimbursement Expansion Act), requires that the Commission reimburse LPTV, television translator and FM broadcast stations for costs reasonably incurred as a result of the incentive auction.

DATES: Comments are due on or before November 21, 2018. Reply comments are due on or before December 6, 2018.

ADDRESSES: Interested parties may submit and reply comments, identified by MB Docket No. 18-214, by any of the following methods:

• Federal eRulemaking Portal: http://www.regulations.gov. Follow the instructions for submitting comments.

• Federal Communications Commission's Website: http://www.fcc.gov/cgb/ecfs/. Follow the instructions for submitting comments.

• Mail: Filings can be sent by hand or messenger delivery, by commercial overnight courier, or by first-class or overnight U.S. Postal Service mail (although the Commission continues to experience delays in receiving U.S. Postal Service mail). All filings must be addressed to the Commission's Secretary, Office of the Secretary, Federal Communications Commission.

• People With Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

FOR FURTHER INFORMATION CONTACT: Pamela Gallant of the Media Bureau, Video Division, (202) 418-0614.

SUPPLEMENTARY INFORMATION: This is a summary of the Commission's Public Notice, DA 18-1072, released on October 22, 2018. The full text of this document is available electronically via the FCC's Electronic Document Management System (EDOCS) website at https://www.fcc.gov/document/iatfmedia-bureau-seek-comment-lptv-translator-and-fm-catalog. Documents will be available electronically in ASCII, Microsoft Word, and/or Adobe Acrobat. This document is also available for public inspection and copying during regular business hours in the FCC Reference Information Center, which is located in Room CY-A257 at FCC Headquarters, 445 12th Street SW, Washington, DC 20554. The Reference Information Center is open to the public Monday through Thursday from 8:00 a.m. to 4:30 p.m. and Friday from 8:00 a.m. to 11:30 a.m. The complete text may be purchased from the Commission's copy contractor, 445 12th Street SW, Room CY-B402, Washington, DC 20554. Alternative formats are available for people with disabilities (braille, large print, electronic files, audio format), by sending an email to FCC504@fcc.gov or calling the Commission's Consumer and Governmental Affairs Bureau at (202) 418-0530 (voice), (202) 418-0432 (TTY).

Synopsis

1. On March 23, 2018, the President signed into law the Consolidated Appropriations Act of 2018, which included the Reimbursement Expansion Act (REA) of 2018. In Title V of REA of 2018, Congress provided funding for and expanded the list of entities eligible to receive reimbursement for costs reasonably incurred resulting from the incentive auction to include LPTV, television translator and FM stations. To implement the REA, the Commission released a Notice of Proposed Rulemaking (MB Docket No. 18-214, GN Docket No. 12-268, Notice of Proposed Rulemaking and Order, FCC 18-113) that, among other things, seeks comment on the types of costs these entities are likely to incur and instructs the Media Bureau to develop a revised Catalog of Eligible Expenses. Accordingly, this Public Notice seeks comment on a proposed LPTV/Translator/FM Cost Catalog (Appendix A to this Public Notice), which was developed by a third-party contractor engaged by the Media Bureau to identify price ranges for potential services and equipment based on a market survey of industry vendors.

2. The LPTV/Translator/FM Cost Catalog will facilitate the reimbursement process. The LPTV/Translator/FM Cost Catalog provides predetermined costs or cost ranges for use as estimates when stations do not have vendor quotes, and establishes acceptable price ranges, thereby necessitating additional cost justification documentation only for expenses that are higher than the range in the Catalog or that are for equipment or services not covered by the LPTV/Translator/FM Cost Catalog. This Public Notice seeks comment on whether the Catalog is missing any types of expenses LPTV, translator and FM stations are likely to incur and on the price ranges in the Catalog.

Procedural Matters

4. Pursuant to sections 1.415 and 1.419 of the Commission's rules, 47 CFR 1.415 and 1.419, interested parties may file comments on or before the dates indicated on the first page of this document. All filings should refer to MB Docket No. 18-214. Comments may be filed: (1) Using the Commission's Electronic Comment Filing System (ECFS), or (2) by filing paper copies. Electronic Filing of Documents in Rulemaking Proceedings, 63 FR 24121 (1998).

5. Comments and reply comments filed in response to this document will be available for public inspection and copying in the Commission's Reference Center, Room CY-A257, 445 12th Street SW, Washington, DC 20554, and via the Commission's Electronic Comment Filing System (ECFS) by entering the docket number, MB Docket No. 18-214.

6. Parties who choose to file by paper must file an original and one copy of each filing. If more than one docket or rulemaking number appears in the caption of this proceeding, commenters must submit two additional copies for each additional docket or rulemaking number.

7. Filings can be sent by hand or messenger delivery, by commercial overnight courier, or by first-class or overnight U.S. Postal Service mail (although we continue to experience delays in receiving U.S. Postal Service mail). All filings must be addressed to the Commission's Secretary, Office of the Secretary, Federal Communications Commission, as follows:

• All hand-delivered paper filings for the Commission's Secretary must be delivered to FCC Headquarters at 445 12th St. SW, Room TW-A325, Washington, DC 20554. All hand deliveries must be held together with rubber bands or fasteners. Envelopes must be disposed of before entering the building. The filing hours at this location are 8:00 a.m. to 7:00 p.m.

• Commercial overnight mail (except U.S. Postal Service mail) must be sent to 9050 Junction Drive, Annapolis Junction, MD 20701.

• All other mail, including U.S. Postal Service Express Mail, Priority Mail, and First Class Mail should be addressed to 445 12th Street SW, Washington, DC 20554.

8. Alternate formats of this Public Notice (computer diskette, large print, audio recording, and Braille) are available to persons with disabilities by contacting the Consumer & Governmental Affairs Bureau at (202) 418-0530 (voice), (202) 418-0432 (TTY), or send an email to fcc504@fcc.gov.

Federal Communications Commission.
Thomas Horan,
Chief of Staff.

[FR Doc. 2018-25571 Filed 11-23-18; 8:45 am]

BILLING CODE 6712-01-P